DEPARTMENT OF HOMELAND SECURITY

Coast Guard

[Docket No. USCG-2016-0466]

Waterway Suitability Assessment for Expansion of Liquefied Natural Gas Facility; Ingleside, TX

AGENCY: Coast Guard, DHS.

ACTION: Notice and request for comments.

SUMMARY: The Coast Guard, at Sector Corpus Christi, announces receipt of a Letter of Intent (LOI) and Waterways Suitability Assessment (WSA) for a construction project expanding a Federal Energy Regulatory Commission (FERC) approved Liquefied Natural Gas (LNG) facility in Ingleside, Texas. The LOI and WSA were submitted by Rodino, Inc. on behalf of Cheniere's Corpus Christi Liquefaction (CCL) Project. The Coast Guard is notifying the public of this action to solicit public comments on the proposed expansion of LNG facilities.

DATES: Comments must be submitted to the online docket via http://www.regulations.gov, or reach the Docket Management Facility, on or before September 14, 2016.

ADDRESSES: You may submit comments identified by docket number USCG-2016-0466 using the Federal eRulemaking Portal at http://www.regulations.gov. See the “Public Participation and Request for Comments” portion of the SUPPLEMENTARY INFORMATION section for further instructions on submitting comments.

FOR FURTHER INFORMATION CONTACT: For information about this document: call or email MST2 Rebekah Wagner, Sector Corpus Christi Waterways Management Division, Coast Guard; telephone 361-888-3162, Rebekah.S.Wagner@uscg.mil.

SUPPLEMENTARY INFORMATION:

Public Participation and Comments

We encourage you to submit comments (or related materials) on this notice for the waterway suitability assessment for the expansion of an LNG facility, as defined by 33 CFR 127.005. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Discussion

Under 33 CFR 127.007, an owner or operator planning new construction to expand or modify marine terminal operations in an existing facility handling LNG or Liquefied Hazardous Gas (LHG), where the construction, expansion, or modification would result in an increase in the size and/or frequency of LNG or LHG marine traffic on the waterway associated with a proposed facility or modification to an existing facility, must submit an LOI to the Captain of the Port (COTP) of the zone in which the facility is or will be located. Under 33 CFR 127.009, after receiving an LOI, the COTP issues a Letter of Recommendation (LOR) as to the suitability of the waterway for LNG or LHG marine traffic to the appropriate jurisdictional authorities. The LOR is based on a series of factors outlined in 33 CFR 127.009 that relate to the physical nature of the affected waterway and issues of safety and security associated with LNG or LHG marine traffic on the affected waterway.

The purpose of this notice is to solicit public comments on the proposed construction and expansion project related to a FERC approved LNG facility as submitted by Rodino, Inc. on behalf of Cheniere's CCL Project in Corpus Christi, Texas. Input from the public may be useful to the COTP with respect to developing the LOR. The Coast Guard requests comments to help assess the suitability of the associated waterway for increased LNG marine traffic as it relates to navigation, safety, and security.

On January 24, 2011, the Coast Guard published Navigation and Vessel Inspection Circular (NVIC) 01-2011, “Guidance Related to Waterfront Liquefied Natural Gas (LNG) Facilities.” NVIC 01-2011 provides guidance for owners and operators seeking approval to construct and operate LNG facilities. The Coast Guard will refer to NVIC 01-2011 for process information and guidance in evaluating the project included in the LOI and WSA submitted by Rodino, Inc. A copy of NVIC 01-2011 is available for viewing in the public docket for this notice and also on the Coast Guard's Web site at http://www.uscg.mil/hq/cg5/nvic/pdf/2011/NVIC%2001-2011%20Final.pdf.

This notice is issued under authority of 33 U.S.C. 1231; 46 U.S.C. Chapter 701; Department of Homeland Security Delegation Number 0170.1(70), 33 CFR 127.009, and 33 CFR 103.205.

Dated: July 28, 2016.
M.T. Cunningham,
Captain, U.S. Coast Guard, Acting Captain of the Port Corpus Christi, TX.

[FR Doc. 2016-19282 Filed 8-12-16; 8:45 am]

BILLING CODE 9110-04-P